DEPARTMENT OF AGRICULTURE

Forest Service

False Island Timber Sale(s), Sitka Ranger District, Tongass National Forest

AGENCY: Forest Service, USDA.

ACTION: Cancel notice of intent to prepare an environmental impact statement.

SUMMARY: The Department of Agriculture, Forest Service is issuing this notice to advise the public that we are canceling the notice of intent (NOI) to prepare an Environmental Impact Statement (EIS) for the False Island Timber Sale(s) project.

FOR FURTHER INFORMATION CONTACT: Carol Goularte, District Ranger or Hans von Rekowski, Team Leader, Sitka Ranger District, 204 Siginaka Way, Sitka, AK 99835, phone (907) 747-4220, fax (907) 747-4253.

SUPPLEMENTARY INFORMATION: The False Island Timber Sale(s), Sitka Ranger District, Tongass National Forest Notice of Intent to Prepare an Environmental Impact Statement was published in the Federal Register Number 150, Pages 50628-50629). The Forest Service is canceling that NOI to prepare an EIS for the False Island Timber Sale(s) on the southeastern part of Chichagof Island about 35 air miles north of Sitka, Alaska, 20 air miles west of Angoon, Alaska, and 15 air miles south of Tenakee Springs. The project and this NOI are being cancelled because the project is not feasible at this time, primarily due to economic consideration of the potential timber sale offering.

Dated: August 25, 2005.
Forrest Cole,
Forest Supervisor.

[FR Doc. 05-17563 Filed 9-2-05; 8:45 am]

BILLING CODE 3410-11-M